ENVIRONMENTAL PROTECTION AGENCY

40 CFR Parts 60 and 63

[EPA-HQ-OAR-2002-0083, EPA-HQ-OAR-2002-0085, EPA-HQ-OAR-2003-0051; EPA-HQ-OAR-2025-0162; FRL-12958-01-OAR]

Technical Correction: Extension of Deadlines: Standards of Performance for New, Reconstructed, and Modified Sources and Emissions Guidelines for Existing Sources: Oil and Natural Gas Sector Climate Review Interim Final Rule; National Emission Standards for Hazardous Air Pollutants for Integrated Iron and Steel Manufacturing Facilities; National Emission Standards for Hazardous Air Pollutants for Coke Ovens: Pushing, Quenching, and Battery Stacks, and Coke Oven Batteries

AGENCY: Environmental Protection Agency (EPA).

ACTION: Interim final rule; notification of public hearing and extension of public comment period; technical correction.

SUMMARY: The Environmental Protection Agency (EPA) is correcting a document that appeared in the Federal Register (FR) on August 15, 2025. The EPA finalized the document announcing three public hearings and comment period extensions for the following rules: Extension of Deadlines: Standards of Performance for New, Reconstructed, and Modified Sources and Emissions Guidelines for Existing Sources: Oil and Natural Gas Sector Climate Review Interim Final Rule; National Emission Standards for Hazardous Air Pollutants for Integrated Iron and Steel Manufacturing Facilities; National Emission Standards for Hazardous Air Pollutants for Coke Ovens: Pushing, Quenching, and Battery Stacks, and Coke Oven Batteries. Following publication of this document, the EPA discovered inadvertent errors in the comment period extension dates for the Oil and Natural Gas and Iron and Steel rulemakings and is correcting them in this action.

DATES: Effective August 22, 2025.

SUPPLEMENTARY INFORMATION:

Corrections

In FR Doc. 2025-15614 appearing on page 39333 in the Federal Register of Friday, August 15, 2025, the following corrections are made:

1. On page 39333, in the second column, in the Summary section, “October 1, 2025” is corrected to read “October 2, 2025”, and “October 2, 2025” is corrected to read “October 3, 2025”.

2. On page 39333, in the third column, in the Dates section, “October 1, 2025” is corrected to read “October 2, 2025”, and “October 2, 2025” is corrected to read “October 3, 2025”.

3. On page 39334, in the third column, in table 1, in the Supplementary Information section, “October 1, 2025” is corrected to read “October 2, 2025”, and “October 2, 2025” is corrected to read “October 3, 2025”.

Panagiotis Tsirigotis,
Director, Office of Air Quality Planning and Standard.

[FR Doc. 2025-16152 Filed 8-21-25; 8:45 am]

BILLING CODE 6560-50-P